ELECTION ASSISTANCE COMMISSION

Agency Information Collection Activities: EAC Budget Expenditures Worksheet

AGENCY: Election Assistance Commission.

ACTION: Notice; request for comment.

SUMMARY: As part of its continuing effort to reduce paperwork burdens, and as required by the Paperwork Reduction Act of 1995 (PRA), the U.S. Election Assistance Commission (EAC) gives notice that it is requesting from the Office of Management and Budget (OMB) approval for the extension of the information collection EAC Budget Expenditures Worksheet (EAC-BEW) and Instructions. The EAC proposes to identify and collect budget and expense activity data for HAVA. EAC will use this data to ensure grantees are proceeding in a satisfactory manner in meeting the approved goals and purpose of the project.

DATES: Comments must be received by 5 p.m. Eastern on Monday, August 18, 2025.

ADDRESSES: Comments on the proposed form should be submitted electronically via https://www.regulations.gov (docket ID: EAC-2025-0006).

Written comments on the proposed information collection can also be sent to the U.S. Election Assistance Commission, 633 3rd Street NW, Suite 200, Washington, DC 20001, Attn: Office of Grants Management OCFO.

All requests and submissions should be identified by the title of the information collection.

SUPPLEMENTARY INFORMATION:

Title and OMB Number

EAC Budget Expenditures Worksheet (EAC-BEW); OMB Number: 3265-0023.

Purpose

This proposed information collection was previously published in the Federal Register on Wednesday, May 14, 2025, and allowed 60 days for public comment. In compliance with Section 3507(a)(1)(D) of the Paperwork Reduction Act (PRA) of 1995, EAC has submitted to the Office of Management and Budget (OMB) a request for review and approval of the information collection listed below. The purpose of this notice is to allow an additional 30 days for public comment from all interested individuals and organizations.

The EAC Office of Grants Management (EAC/OGM) is responsible for awarding, distributing, monitoring, and providing technical assistance to states and grantees on the use of federal funds. EAC/OGM also reports on how the funds are spent, negotiates indirect cost rates with grantees, and resolves audit findings on the use of HAVA funds.

The EAC-BEW is to be employed for all formula grants issued under HAVA authority. The EAC-BEW will directly benefit award recipients by making it easier for them to monitor budgets and expenses on their federal grant and cooperative agreement programs through standardization of the types of information found in the worksheet—thereby reducing their administrative effort and costs.

The requirement for grantees to report on performance is OMB grants policy. Specific citations are contained in Code of Federal Regulations TITLE 2, PART 200—w, COST PRINCIPLES, AND AUDIT REQUIREMENTS FOR FEDERAL AWARDS.

Public Comments

The EAC is soliciting public comments on:

• Ways to enhance the quality, utility, and clarity of the information collected from respondents, including using automated collection techniques or other forms of information technology; and

• Ways to minimize the burden of the collection of information on respondents, including through the use of automated collection techniques or other forms of information technology.

Please note that comments submitted in response to this Notice are public record. Before including any detailed personal information, you should be aware that your comments as submitted, including your personal information, will be available for public review.

Respondents: All EAC formula grantees and state governments.

Annual Reporting Burden

Annual Burden Estimates
EAC grant | Instrument | Total number of respondents | Total number of responses per year | Average burden hours per response | Annual burden hours
TBD | EAC-BEW | 56 | 1 | .5 | 28
Total |  |  |  |  | 28

The estimated cost of the annualized cost of this burden is: $718.76, which is calculated by taking the annualized burden (28 hours) and multiplying by an hourly rate of $25.67 (GS-8/Step 5 hourly basic rate).

Seton Parsons,
Associate Counsel, U.S. Election Assistance Commission.

[FR Doc. 2025-13491 Filed 7-17-25; 8:45 am]

BILLING CODE 4810-71-P